DEPARTMENT OF THE INTERIOR

Fish and Wildlife Service

Endangered Species Permit Applications

AGENCY: Fish and Wildlife Service.

ACTION: Notice of receipt of permit applications.

SUMMARY: The following applicants have applied for a scientific research permit to conduct certain activities with endangered species pursuant to section 10 (a)(1)(A) of the Endangered Species Act of 1973, as amended (16 USC 1531 et seq.).

Permit No. TE-022227

Applicant: Harry Franklin Smead, Lemon Grove, California.

The applicant requests a permit to take (capture, handle, and release) the arroyo southwestern toad (Bufo microscaphus californicus) in conjunction with field recovery activities throughout its range for the purpose of enhancing its survival.

Permit No. TE-022251

Applicant: Patricia A. Cole, Costa Mesa, California.

The applicant requests a permit to take (survey by pursuit) the Quino checkerspot butterfly (Euphydryas editha quino) in conjunction with presence or absence surveys throughout its range for the purpose of enhancing its survival.

Permit No. TE-022183

Applicant: Los Angeles World Airports, Los Angeles, California.

The applicant requests a permit to take (survey by pursuit) the El Segundo blue butterfly (Euphilotes battoides allyni) in conjunction with presence or absence surveys throughout its range for the purpose of enhancing its survival.

Permit No. TE-022181

Applicant: David J. Ezell, Hemet, California.

The applicant requests a permit to take (survey by pursuit) the Quino checkerspot butterfly (Euphydryas editha quino) in conjunction with presence or absence surveys throughout its range for the purpose of enhancing its survival.

Permit No. TE-022230

Applicant: Jeff Kidd, Laguna Niguel, California.

The applicant requests a permit to take (survey by pursuit) the Quino checkerspot butterfly (Euphydryas editha quino) in conjunction with presence or absence surveys and take (capture, handle, and release) the arroyo southwestern toad (Bufo microscaphus californicus) for scientific studies throughout their range for the purpose of enhancing their survival.

Permit No. TE-009066

Applicant: Thomas Alan Benson, Buena Park, California.

The applicant requests a permit to take (survey by pursuit) the Quino checkerspot butterfly (Euphydryas editha quino) in conjunction with presence or absence surveys throughout its range for the purpose of enhancing its survival.

Permit No. TE-702631

Applicant: Assistant Regional Director-Ecological Services, Region 1, U.S. Fish and Wildlife Service, Portland, Oregon.

The permittee requests a permit amendment to remove and reduce to possession specimens of the following plant species: Erigeron decumbens var. decumbens (Willamette daisy), Plagiobothrys hirtus (rough popcornflower), Delphinium bakeri (Baker's larkspur), Delphinium luteum (yellow larkspur), and Phlox hirsuta (Yreka phlox). Authorization is also requested to take the following species: the Fender's blue butterfly (Icaricia icarioides fenderi) and the Blackburn's sphinx moth (Manduca blackburni). Collection and take activities will be conducted throughout the species range in conjunction with recovery efforts for the purpose of enhancing their propagation and survival.

Permit No. TE-799558

Applicant: Idaho Power Company, Boise, Idaho.

The permittee requests a permit amendment to extend the geographic area authorized to take (survey and collect voucher speciemens) the Banbury Springs limpet (Lanx undescribed species), Bliss Rapids snail (Taylorconcha serpenticola), Idaho springsnail (Pyrgulopsis idahoensis), Snake River physa snail (Physa natricina), and the Utah valvata snail (Valvata utahensis), to include throughout the species range in conjunction with ecological research for the purpose of enhancing their survival.

Permit No. TE-798003-1

Applicant: North State Resources, Redding, California.

The applicant requests a permit amendment to take (harass by survey, collect, and sacrifice) the San Diego fairy shrimp (Brachinecta sandiegonensis) throughout its range in California, in conjunction with surveys for the purpose of enhancing their survival.

Permit No. TE-022686

Applicant: David Mayer, San Diego, California.

The applicant requests a permit to take (harass by survey) the southwestern willow flycatcher (Empidonax traillii extimus); take (harass by pursuit) the Quino checkerspot butterfly (Euphydryas editha quino); and take (harass by survey, collect, and sacrifice) the Conservancy fairy shrimp (Branchinecta conservatio), longhorn fairy shrimp (Branchinecta longiantenna), Riverside fairy shrimp (Streptocephalus woottoni), San Diego fairy shrimp (Branchinecta sandiegonensis), and the vernal pool tadpole shrimp (Lepidurus packardi) throughout the species range in conjunction with surveys for the purpose of enhancing their survival.

DATES: Written comments on these permit applications must be received on or before March 23, 2000.

ADDRESSES: Written data or comments should be submitted to the Chief—Endangered Species, Ecological Services, Fish and Wildlife Service, 911 N.E. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: February 11, 2000.
Anne Badgley,
Regional Director, Region 1, Portland, Oregon.

[FR Doc. 00-4067 Filed 2-18-00; 8:45 am]

BILLING CODE 4310-55-P